FEDERAL COMMUNICATIONS COMMISSION

[DA 19-274]

Consumer Advisory Committee; Meeting

AGENCY: Federal Communications Commission.

ACTION: Notice.

SUMMARY: In this document, the Commission announces the renewal of its Consumer Advisory Committee (CAC or Committee) and announces the next meeting date, time, and agenda of the Committee.

DATES: June 3, 2019. The meeting will come to order at 9:00 a.m.

ADDRESSES: Federal Communications Commission, 445 12th Street SW, Commission Meeting Room TW-C305, Washington, DC 20554.

FOR FURTHER INFORMATION CONTACT: Scott Marshall, Designated Federal Officer of the Committee, (202) 418-2809 (voice or Relay); email Scott.Marshall@fcc.gov.

SUPPLEMENTARY INFORMATION: By Public Notice (DA 19-274) dated and released April 10, 2019, the Commission announced renewal of the Committee's charter now in its tenth term ending October 20, 2020. This renewal is necessary and in the public interest.

Proposed Agenda: At its June 3, 2019 meeting, the CAC is expected to discuss the roles and responsibilities of the Committee and its members, issues that the Commission wishes the Committee to address, meeting schedules, and any other topics relevant to the CAC's work. The CAC may also receive briefings from Commission staff on issues of interest to consumers.

This meeting is open to members of the general public. The FCC will accommodate as many participants as possible; however, admission will be limited to seating availability. The Commission will also provide audio and/or video coverage of the meeting over the internet from the FCC's web page at: www.fcc.gov/live. Oral statements at the meeting by parties or entities not represented on the CAC will be permitted to the extent time permits, at the discretion of the CAC Chair and the DFO. Members of the public may submit comments to the CAC in the FCC's Electronic Comment Filing System, ECFS, at: www.fcc.gov/ecfs.

Open captioning will be provided for this event. Other reasonable accommodations for people with disabilities are available upon request. Requests for such accommodations should be submitted via email to: fcc504@fcc.gov or by calling the Consumer and Governmental Affairs Bureau at (202) 418-0530 (voice), (202) 418-0432 (TTY). Such requests should include a detailed description of the accommodation needed. In addition, please include a way for the FCC to contact the requester if more information is needed to fill the request. Please allow at least five days' advance notice; last minute requests will be accepted but may not be possible to accommodate.

Gregory Haledjian,
Legal Advisor, Consumer and Governmental Affairs Bureau.

[FR Doc. 2019-09668 Filed 5-9-19; 8:45 am]

BILLING CODE 6712-01-P